DEPARTMENT OF THE INTERIOR

Fish and Wildlife Service

[FWS-R8-ES-2015-N124: FF08ENVD00-FXES11130800000-156]

Endangered and Threatened Wildlife and Plants; Enhancement of Survival Permit Application; Greater Sage-Grouse Candidate Conservation Agreement With Assurances for Smith Creek Ranch LTD

AGENCY: Fish and Wildlife Service, Interior.

ACTION: Notice of availability; request for comments.

SUMMARY: We, the U.S. Fish and Wildlife Service (Service), have received an application for an enhancement of survival permit (EOS) under the Endangered Species Act of 1973, as amended (ESA). The permit application includes a draft candidate conservation agreement with assurances (CCAA) between Smith Creek Ranch LTD and the Service for the greater sage-grouse on private rangelands in Churchill and Lander Counties, Nevada. We invite comments from all interested parties on the application, including the draft CCAA, and a draft environmental action statement (EAS) prepared pursuant to the requirements of the National Environmental Policy Act (NEPA).

DATES: To ensure consideration, written comments must be received from interested parties no later than September 8, 2015.

ADDRESSES: To request further information or submit written comments, please use one of the following methods, and note that your information request or comments are in reference to the Smith Creek Ranch LTD CCAA.

Internet: Documents may be viewed on the Internet at http://www.fws.gov/nevada.

Email: marcy_haworth@fws.gov. Include “Smith Creek Ranch CCAA” in the subject line of the message or comments.

U.S. Mail: U.S. Fish and Wildlife Service, Reno Fish and Wildlife Office, 1340 Financial Boulevard, Suite 234, Reno, NV 89502.

Fax: 775-861-6301. Include “Smith Creek Ranch CCAA” in the subject line of the message or comments.

In-Person Viewing or Pickup: Documents will be available for public inspection by appointment during normal business hours at the Reno Fish and Wildlife Office (address above).

FOR FURTHER INFORMATION CONTACT: Edward D. Koch, Field Supervisor, Reno Fish and Wildlife Office (see ADDRESSES); by telephone (775-861-6300), or by facsimile (775-861-6301). If you use a telecommunications device for the deaf (TDD), please call the Federal Information Relay Service at 800-877-8339.

SUPPLEMENTARY INFORMATION: We have received an application from Smith Creek Ranch LTD for an EOS permit under the ESA. The permit application includes a CCAA between the applicant and the Service for the greater sage-grouse (Centrocercus urophasianus) in Churchill and Lander Counties, Nevada. The Service and the applicant prepared the CCAA to provide the applicant with the opportunity to voluntarily conserve the greater sage-grouse and its habitat while carrying out ranch operations. We have made a preliminary determination that the proposed CCAA and permit issuance are eligible for categorical exclusion under NEPA. The basis for our preliminary determination is contained in an EAS. We invite comments from all interested parties on the application, including the CCAA and the EAS.

Background Information

Private and other non-Federal property owners are encouraged to enter into CCAAs, in which they voluntarily undertake management activities on their properties to enhance, restore, or maintain habitat benefiting species that are proposed for listing under the ESA, candidates for listing, or species that may become candidates or proposed for listing. Through a CCAA and its associated EOS permit, the Service provides assurances to property owners that they will not be subjected to increased land use restrictions if the covered species become listed under the ESA in the future, provided the CCAA is being properly implemented and the EOS permit conditions are met. Application requirements and issuance criteria for EOS permits for CCAAs are found in the Code of Regulations (CFR) at 50 CFR 17.22(d) and 17.32 (d), respectively. See also our joint policy on CCAAs, which we published in the Federal Register with the Department of Commerce's National Oceanic and Atmospheric Administration, National Marine Fisheries Service (64 FR 32726; June 17, 1999), as well as our revisions to that policy (69 FR 24084; May 3, 2004).

On March 23, 2010, the Service published a 12-month finding in the Federal Register (75 FR 13910) that the greater sage-grouse warrants listing under the ESA as threatened or endangered throughout is range, but this action was precluded by other higher priority listing actions. In anticipation of a future listing decision by the Service, the applicant requested assistance from the Service in developing a CCAA addressing the needs of the greater sage-grouse on lands owned in Churchill and Lander Counties, Nevada. Under the proposed CCAA, the applicant will address threats to the greater sage-grouse through implementation of conservation measures that are consistent with their land use activities and the CCAA. Through the issuance of an EOS permit, pursuant to section 10(a)(1)(A) of the ESA, the applicant would be authorized to incidentally take greater sage-grouse in the course of implementing the CCAA if the species becomes listed under the ESA in the future, as long as the terms and conditions of the permit and the CCAA are followed.

Proposed Action

The Service proposes to approve the CCAA and to issue an EOS permit, both with a term of 20 years, to Smith Creek Ranch LTD for incidental take of greater sage-grouse caused by covered activities, if permit issuance criteria are met. The area to be addressed under this proposed CCAA (i.e., covered lands) includes approximately 2,200 acres in Churchill and Lander Counties, Nevada. Greater sage-grouse currently use suitable habitat on the covered lands for nesting, early and late brood-rearing, and wintering. The proposed CCAA describes the threats to the greater sage-grouse that have been identified on the enrolled lands, and the conservation measures the applicant will implement to address these threats. Implementation of the conservation measures identified in the CCAA is expected to benefit the greater sage-grouse by (1) Maintaining tracts of unfragmented and undeveloped land; (2) managing weeds and invasive plant species; and (3) maintaining healthy, intact nesting, brood-rearing and wintering habitats. The CCAA has been developed in support of a EOS permit under section 10(a)(1)(A) of the ESA.

Consistent with our CCAA Policy (64 FR 32726), the conservation goal of the proposed CCAA is to encourage enhancement and protection of greater sage-grouse habitat on non-Federal lands by either maintaining or modifying existing land uses so that they are consistent with the conservation needs of the greater sage-grouse. We can meet this conservation goal with the use of a CCAA by giving non-Federal landowners incentives to implement conservation measures, primarily through regulatory certainty concerning land-use restrictions that might otherwise apply should the greater sage-grouse become listed under the ESA.

We have made a preliminary determination that the proposed CCAA and permit issuance are eligible for categorical exclusion under NEPA. The basis for our preliminary determination is contained in an EAS, which is available for public review (see ADDRESSES).

Public Comments

We request data, comments, new information, or suggestions from the public, other concerned governmental agencies, the scientific community, Tribes, industry, or any other interested party on this notice. We particularly seek comments on the following: (1) Biological information concerning the greater sage-grouse; (2) relevant data concerning this species; (3) additional information concerning the range, distribution, population size, and population trends of the greater sage-grouse; (4) current or planned activities in the covered area and their possible impacts on the species; (5) identification of any other environmental issues that should be considered with regard to the proposed permit action; and (6) information regarding the adequacy of the CCAA pursuant to the requirements for permits at 50 CFR parts 13 and 17.

Public Availability of Comments

All comments and materials we receive become part of the public record associated with this action. Before including your address, phone number, email address, or other personal identifiable information (PII) in your comments, you should be aware that your entire comment—including your PII—may be made publically available at any time. While you can ask us in your comment to withhold your PII from public review, we cannot guarantee we will be able to do so. Comments and materials we receive, as well as supporting documentation we used in preparing the draft EAS, will be available for public inspection by appointment, during normal business hours, at our Reno Fish and Wildlife Office (see ADDRESSES).

Next Steps

We will evaluate the permit application, associated documents, and comments we receive to determine whether the permit application meets the requirements of section 10(a)(1)(A) of the ESA and NEPA and their implementing regulations. We will also evaluate whether issuance of an EOS permit would comply with section 7 of the ESA by conducting an intra-Service section 7 consultation on the proposed permit action. If we determine that all requirements are met, we will sign the proposed CCAA and issue an EOS permit under section 10(a)(1)(A) of the ESA to Smith Creek Ranch LTD for incidental take of greater sage-grouse that is likely to occur with implementation of the CCAA. We will not make our final decision until after the end of the 30-day public comment period, and we will fully consider all comments we receive during the public comment period.

Authority

We provide this notice in accordance with the requirements of section 10(c) of the ESA (16 U.S.C. 1531 et seq.) and NEPA (42 U.S.C. 4321 et seq.) and their implementing regulations (50 CFR 17.22 and 40 CFR 1506.6, respectively).

Edward D. Koch,
Field Supervisor, Reno Fish and Wildlife Office, U.S. Fish and Wildlife Service, Reno, Nevada.

[FR Doc. 2015-19469 Filed 8-6-15; 8:45 am]

BILLING CODE 4310-55-P